DEPARTMENT OF TRANSPORTATION

Coast Guard

[USCG-2001-9268]

Commercial Fishing Industry Vessel Advisory Committee

AGENCY: Coast Guard, DOT.

ACTION: Notice of meeting.

SUMMARY: The Commercial Fishing Industry Vessel Advisory Committee (CFIVAC) will meet to discuss various issues relating to commercial vessel safety in the fishing industry. The meetings are open to the public.

DATES: CFIVAC will meet on Wednesday, May 2, 2001, from 9 a.m. to 5 p.m and May 3, 2001, from 9 a.m. to 5 p.m. The meeting may close early if all business is finished. Requests to make oral presentations should reach the Coast Guard on or before April 16, 2001. Written material for distribution at the meeting should reach the Coast Guard on or before April 23, 2001. Requests to have a copy of your material distributed to each member of the committee should reach the Coast Guard on or before April 9, 2001.

ADDRESSES: CFIVAC will meet in the Doubletree Hotel, 1230 Congress Street, Portland, ME. Send written material and requests to make oral presentations to Captain Jon Sarubbi, Commandant (G-MOC), U.S. Coast Guard Headquarters, 2100 Second Street SW., Washington, DC 20593-0001. This notice is available on the Internet at http://dms.dot.gov.

FOR FURTHER INFORMATION CONTACT: Captain Jon Sarubbi, Executive Director of CFIVAC, or Lieutenant Commander Jennifer Williams, Assistant to the Executive Director, telephone (202) 267-0507, fax (202) 267-0506.

SUPPLEMENTARY INFORMATION: Notice of the meeting is given under the Federal Advisory Committee Act, 5 U.S.C. App. 2.

Agenda of Meeting

The agenda includes the following:

(1) Introduction, recognition of committee members achievements, and approval of last meeting's minutes.

(2) Tour of Portland's fishing piers and fish auction.

(3) Status report from the Coast Guard on legislative change proposal process and regulatory projects with respect to mandatory exams, training requirements, stability requirements, and immersion suit requirements.

(4) Presentation by the Coast Guard on “Operation Safe Crab” conducted in the Thirteenth Coast Guard District.

(5) Presentation by LCDR Jennifer Lincoln, NIOSH, on prevention studies conducted by NIOSH.

(6) Presentation of Portland, ME, concept for a safety training center for fishermen.

Procedural

The meeting is open to the public. Please note that the meeting may close early if all business is finished. At the Chair's discretion, members of the public may make oral presentations during the meeting. If you would like to make an oral presentation at the meeting, please notify the Executive Director no later than April 16, 2001. Written material for distribution at the meeting should reach the Coast Guard no later than April 23, 2001. If you would like a copy of your material distributed to each member of the committee in advance of the meeting, please submit 25 copies to the Executive Director no later than April 9, 2001.

Information on Services for Individuals With Disabilities

For information on facilities or services for individuals with disabilities or to request special assistance at the meeting, contact the Executive Director as soon as possible.

Dated: March 27, 2001.
J.P. High,
Acting Assistant Commandant for Marine Safety and Environmental Protection.

[FR Doc. 01-8310 Filed 4-4-01; 8:45 am]

BILLING CODE 4910-15-U